DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance
[12/22/2011 through 02/06/2012]
Firm name | Address | Date accepted for investigation | Products
McCormick Armstrong Co, Inc | 1501 E. Douglas Avenue, Wichita, KS 68211-1608 | 1/19/2012 | The firm specializes in the commercial printing of customized promotional products including calendars, catalogs, and mailers.
Tru-Wood Cabinets, Inc | 41778 Highway 77 North, Ashland, AL 36251 | 1/12/2012 | The firm produces kitchen cabinets from raw lumber and plywood.
Graymills Corporation | 3705 North Lincoln Avenue, Chicago, IL 60613 | 2/2/2012 | The firm manufactures industrial pumps and pumping systems, parts washers, ink pumps, and systems, and filtration systems.
Mercury Aircraft, Inc | 17 Wheeler Avenue, Hammondsport, NY 14840 | 2/6/2012 | The firm manufactures metal products like metal enclosures, frames, assemblies, components, and food service equipment.
Wittek Golf Supply Company, Inc | 3865 Commercial Avenue, Northbrook, IL 60062 | 2/6/2012 | The company manufactures golf-related devices such as ball pickers and dispensers. In addition, the firm distributes golf-related products such as golf balls, ball washers, course signage, club grips, and golf tees.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: February 6, 2012.
Miriam Kearse,
Eligibility Certifier.

[FR Doc. 2012-3121 Filed 2-9-12; 8:45 am]

BILLING CODE 3510-WH-P